DEPARTMENT OF AGRICULTURE

Food and Nutrition Service

Agency Information Collection Activities; Comment Request—Supplemental Nutrition Assistance Program Waivers Under Section 6(o) of the Food and Nutrition Act

AGENCY: Food and Nutrition Service (FNS), USDA.

ACTION: Notice.

SUMMARY: In accordance with the Paperwork Reduction Act of 1995, this notice invites the general public and other public agencies to comment on this proposed information collection. This is a revision of a currently approved collection. The purpose of Section 6(o) of the Food and Nutrition Act is to establish a time limit of the receipt of benefits under the Supplemental Nutrition Assistance Program (SNAP) for certain able-bodied adults who are not working. The provision authorizes the Secretary of Agriculture, upon a State agency's request, to waive the provision for any group of individuals if the Secretary determines “that the area in which the individuals reside has an unemployment rate of over 10 percent, or does not have a sufficient number of jobs to provide employment for the individuals.” As required by the statute, in order to receive a waiver the State agency must submit sufficient supporting information so that the United States Department of Agriculture (USDA) can make the required determination as to the area's unemployment rate or insufficiency of available jobs. This collection of information is, therefore, necessary in order to obtain waivers of the SNAP time limit.

DATES: Written comments must be received on or before March 26, 2018.

ADDRESSES: Comments may be sent to: Sasha Gersten-Paal, Branch Chief, Certification Policy Branch, Program Development Division, Food and Nutrition Service, U.S. Department of Agriculture, 3101 Park Center Drive, Room 812, Alexandria, VA 22302. Comments may also be submitted via fax to the attention of Sasha Gersten-Paal at 703-305-2507 or via email to Sasha.Gersten-Paal@fns.usda.gov. Comments will also be accepted through the Federal eRulemaking Portal. Go to http://www.regulations.gov, and follow the online instructions for submitting comments electronically.

All responses to this notice will be summarized and included in the request for Office of Management and Budget approval. All comments will be a matter of public record.

FOR FURTHER INFORMATION CONTACT: Requests for additional information or copies of this information collection should be directed to Sasha Gersten-Paal at 703-305-2705.

SUPPLEMENTARY INFORMATION: Comments are invited on: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Title: Supplemental Nutrition Assistance Program Waivers of Section 6(o) of the Food and Nutrition Act.

Form Number: None.

OMB Number: 0584-0479.

Expiration Date: 3/31/2018.

Type of Request: Revision of a currently approved collection.

Abstract: Section 824 of the Personal Responsibility and Work Opportunity and Reconciliation Act of 1996 (PRWORA), Public Law 104-193, 110 of Stat. 2323 amended Section 6(o) of the Food Stamp act of 1997 (7 U.S.C. 2015(o)) to establish a time limit for the receipt of food stamp benefits for certain able-bodied adults without dependents (ABAWDs) who are not working at least 20 hours per week. This time limit applies only to adults between 18 and 50 years of age that do not have children or adult dependents in their SNAP household. ABAWD recipient eligibility is limited to three months within a 36 month period, unless the individual is working, or participating in a designated employment and training activity, for 20 hours per week. (Note. Pursuant to the Food, Conservation, and Energy Act of 2008 (Pub. L. 110-234, 112 Stat. 923, enacted May 22, 2008), the Food Stamp Act was renamed the Food and Nutrition Act of 2008 and the Food Stamp Program was renamed the Supplemental Nutrition Assistance Program [SNAP].)

The provision authorizes that upon the request of a State agency, the Secretary of Agriculture may waive this provision for any group of individuals if the Secretary determines “that the area in which the individuals reside has an unemployment rate of over 10 percent or does not have a sufficient number of jobs to provide employment for the individuals.” As required in the statute, in order to receive a waiver, the State agency must submit sufficient supporting information so that the Secretary can make the required determination as to the area's unemployment rate or insufficiency of available jobs. This collection of information is necessary in order to obtain waivers of the SNAP ABAWD time limit.

Based on the experience of the Food and Nutrition Service (FNS) during calendar year 2016, FNS projects that 36 out of 53 State agencies will submit requests for a waiver of the time limit for ABAWD recipients based on a high unemployment rate or an insufficient number of jobs. A typical State waiver request includes several geographic areas and each geographic area may include multiple cities or counties. FNS projects that of the 36 requests each year, 34 will be based on labor market data and 2 will be based on a Labor Surplus Area (LSA) designation by the Department of Labor (DOL). FNS estimates a response time of 35 hours for each waiver request based on labor market data, which require detailed analysis of labor markets within the State. FNS estimates a burden of 4 hours per respondent for waivers based on an LSA designation, as the data required to support these waivers is readily available from the DOL website and requires minimal preparation by State agencies. FNS projects a total of 1,198 hours.

Affected Public: State Agencies.

Estimated Number of Respondents: 36.

Estimated Number of Responses per Respondent: 1.

Estimated Total Annual Responses: 36.

Estimated Time per Response: Varies between 4 to 35 Hours.

Estimated Total Annual Burden on Respondents: 1,136.

OMB No. 0584-0479 | Requirement | Estimated number of respondents | Response annually per respondent | Total annual responses | Hours per response | Annual burden hours
Affected Public: State Agencies
Reporting Burden | Submission of waiver request based on labor market data | 34 | 1 | 34 | 35 | 1,190
| Submission of waiver request based on Labor Surplus Area designation | 2 | 1 | 2 | 4 | 8
Reporting Totals |  | 36 |  |  |  | 1,198
Total Reporting Burden |  |  |  |  |  | 1,198

Dated: January 8, 2018.
Brandon Lipps,
Administrator, Food and Nutrition Service.

[FR Doc. 2018-01279 Filed 1-23-18; 8:45 am]

BILLING CODE 3410-30-P